DEPARTMENT OF LABOR

Employment and Training Administration

[TA-W-65,118]

Vanity Fair Brands, LP; Jackson Knitting Facility, a Wholly Owned Subsidiary of Fruit of the Loom, Jackson, AL; Notice of Termination of Investigation

Pursuant to Section 221 of the Trade Act of 1974, as amended, an investigation was initiated on February 4, 2009 in response to a petition filed by a company official on behalf of workers of Vanity Fair Brands, LP, Jackson Knitting Facility, a wholly owned subsidiary of Fruit of the Loom, Jackson, Alabama.

The petitioner has requested that the petition be withdrawn. Therefore, the investigation under this petition has been terminated.

Signed at Washington, DC, this 1st day of April, 2009.
Richard Church,
Certifying Officer, Division of Trade Adjustment Assistance.

[FR Doc. E9-10369 Filed 5-5-09; 8:45 am]

BILLING CODE 4510-FN-P